DEPARTMENT OF ENERGY

Federal Energy Regulatory Commission

Combined Notice of Filings #1

Take notice that the Commission received the following exempt wholesale generator filings:

Docket Numbers: EG15-12-000.

Applicants: Samchully Power & Utilities 1 LLC.

Description: Notice of Self-Certification of Exempt Wholesale Generator Status of Samchully Power & Utilities 1 LLC.

Filed Date: 11/6/14.

Accession Number: 20141106-5173.

Comments Due: 5 p.m. ET 11/28/14.

Take notice that the Commission received the following electric rate filings:

Docket Numbers: ER14-2140-002.

Applicants: Mulberry Farm, LLC.

Description: Report Filing: Supp 3 to Baseline Filing—Mulberry MBR Tariff to be effective N/A.

Filed Date: 11/7/14.

Accession Number: 20141107-5219.

Comments Due: 5 p.m. ET 11/14/14.

Docket Numbers: ER14-2141-002.

Applicants: Selmer Farm, LLC.

Description: Report Filing: Supp 4 to Baseline Filing—Selmer MBR Tariff to be effective N/A.

Filed Date: 11/7/14.

Accession Number: 20141107-5204.

Comments Due: 5 p.m. ET 11/14/14.

Docket Numbers: ER15-359-000.

Applicants: Samchully Power & Utilities 1 LLC.

Description: Initial rate filing per 35.12 MBR Application to be effective 12/15/2014.

Filed Date: 11/6/14.

Accession Number: 20141106-5137.

Comments Due: 5 p.m. ET 11/28/14.

Docket Numbers: ER15-360-000.

Applicants: Southwest Power Pool, Inc.

Description: § 205(d) rate filing per 35.13(a)(2)(iii): 2896SO Hale Community Energy GIA to be effective 5/29/2014.

Filed Date: 11/7/14.

Accession Number: 20141107-5062.

Comments Due: 5 p.m. ET 11/28/14.

Docket Numbers: ER15-361-000.

Applicants: UNS Electric, Inc.

Description: § 205(d) rate filing per 35.13(a)(2)(iii): Update to Attachment C of Open Access Transmission Tariff to be effective 1/6/2015.

Filed Date: 11/7/14.

Accession Number: 20141107-5070.

Comments Due: 5 p.m. ET 11/28/14.

Docket Numbers: ER15-362-000.

Applicants: Southwest Power Pool, Inc.

Description: § 205(d) rate filing per 35.13(a)(2)(iii): 1693R3 Westar Energy, Inc. LGIA to be effective 10/31/2014.

Filed Date: 11/7/14.

Accession Number: 20141107-5079.

Comments Due: 5 p.m. ET 11/28/14.

Docket Numbers: ER15-363-000.

Applicants: PJM Interconnection, L.L.C.

Description: § 205(d) rate filing per 35.13(a)(2)(iii): Original Service Agreement No. 3991; Queue Y3-062 to be effective 10/10/2014.

Filed Date: 11/7/14.

Accession Number: 20141107-5117.

Comments Due: 5 p.m. ET 11/28/14.

Docket Numbers: ER15-364-000.

Applicants: PJM Interconnection, L.L.C., American Electric Power Service Corporation.

Description: § 205(d) rate filing per 35.13(a)(2)(iii): AEP submits 44th Revised Service Agreement No. 1336 to be effective 10/10/2014.

Filed Date: 11/7/14.

Accession Number: 20141107-5161.

Comments Due: 5 p.m. ET 11/28/14.

Docket Numbers: ER15-365-000.

Applicants: Midcontinent Independent System Operator, Inc.

Description: § 205(d) rate filing per 35.13(a)(2)(iii): 2014-11-07_SA 2710 ITC Midwest-EDF Renewable GIA (J097) to be effective 11/8/2014.

Filed Date: 11/7/14.

Accession Number: 20141107-5181.

Comments Due: 5 p.m. ET 11/28/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2014.
Nathaniel J. Davis, Sr.,
Deputy Secretary.

[FR Doc. 2014-27100 Filed 11-14-14; 8:45 am]

BILLING CODE 6717-01-P